DEPARTMENT OF AGRICULTURE

Forest Service

Establishment of Current River Purchase Unit, Ripley County, Missouri

AGENCY: Forest Service, USDA.

ACTION: Notice.

SUMMARY: On September 30, 2014 the Under Secretary of Natural Resources and Environment created the Current River Unit. This purchase unit comprises 1,868 acres within Ripley County, Missouri. A copy of the establishment document, which includes the legal description of the lands within the purchase unit, appears at the end of this notice.

DATES: The establishment of this purchase unit was effective September 30, 2014.

ADDRESSES: A copy of the map showing the purchase unit is on file and available for public inspection in the Office of the Director, Lands Staff, 1st Floor-Southeast, Sidney R. Yates Federal Building, Forest Service, USDA, 201 14th Street SW., Washington, DC 20250, between the hours of 8:30 a.m. and 4:30 p.m. on business days. Those wishing to inspect the map are encouraged to call ahead to (202) 205-1248 to facilitate entry into the building.

FOR FURTHER INFORMATION CONTACT: Gregory C. Smith, Director, Lands Staff, Forest Service, USDA, 1400 Independence Ave. SW., Mailstop 1124, Washington, DC 20250-0003, telephone: (202) 205-1248.

Individuals who use telecommunications devices for the deaf (TDD) may call the Federal Information Relay Service (FIRS) at 1-800-877-8339 between 8:00 a.m. and 8:00 p.m., Eastern Standard Time, Monday through Friday.

SUPPLEMENTARY INFORMATION: The Current River Purchase Unit will encompass mostly undeveloped lands adjacent to the Current River. The creation of this purchase unit allows for land acquisition of the remaining undeveloped parcels to protect the fragile Current River system and its many listed species. The Current River Purchase Unit will also provide protection and enhancement of watersheds and ecological communities, provide additional areas suitable for outdoor recreation, and provide public access to National Forest Lands.

Dated: January 20, 2015.
Gregory Smith,
Director of Lands and Realty Management.

BILLING CODE 3411-15-P

[FR Doc. 2015-01474 Filed 1-27-15; 8:45 am]

BILLING CODE 3411-15-C